DEPARTMENT OF HOUSING AND URBAN DEVELOPMENT

[Docket No. FR-5168-D-02]

Revocation and Redelegation of Administrative Authority for Title VI of the Civil Rights Act of 1964

AGENCY: Office of the Assistant Secretary for Fair Housing and Equal Opportunity, HUD.

ACTION: Notice of redelegation of authority.

SUMMARY: The Assistant Secretary for Fair Housing and Equal Opportunity (FHEO) revokes all redelegations of authority under Title VI of the Civil Rights Act of 1964 made within the Office of the Assistant Secretary for FHEO and retains and redelegates this authority to act as the “responsible Department official,” with noted exceptions, to the General Deputy Assistant Secretary, who in turn, retains and redelegates this authority, with noted exceptions to the Deputy Assistant Secretary for Enforcement and Programs, Director of the Office of Enforcement, and the FHEO Region Directors.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001; telephone number (202) 619-8046 (this is not a toll-free number). Hearing- and speech-impaired individuals may access this number through TTY by calling the toll-free Federal Information Relay Service at (800) 877-8339.

SUPPLEMENTARY INFORMATION: By previous delegation, the Secretary delegated to the Assistant Secretary for Fair Housing and Equal Opportunity all authority to act as the “responsible Department official” in all matters relating to the carrying out of the requirements under Title VI of the Civil Rights Act of 1964 (42 U.S.C. 2000d) and its implementing regulations (24 CFR part 1) except authority pertaining to tenant selection plans under 24 CFR 1.4(b)(2)(ii). (68 FR 43154, July 21, 2003). By previous redelegation (68 FR 45847, August 4, 2003), the Assistant Secretary for Fair Housing and Equal Opportunity (FHEO) redelegated this authority, with certain exceptions, to the General Deputy Assistant Secretary, who in turn, redelegated certain authority to the Deputy Assistant Secretary for Enforcement and Programs, Director of the Office of Enforcement, and the FHEO Hub Directors. Since then, FHEO has created the Office of Systemic Investigations. Further, the FHEO Hub Directors' titles have been changed to FHEO Region Directors.

Accordingly, in this redelegation, the Assistant Secretary for FHEO revokes the August 4, 2003 and all other previous delegations and redelegates the authority to act as the “responsible Department official” under Title VI of the 1964 Civil Rights Act, and its implementing regulations and now retains and redelegates this authority as follows:

Section A. Authority Redelegated

With certain exceptions noted in Section B, the Assistant Secretary for FHEO redelegates to the General Deputy Assistant Secretary for FHEO the authority, under Title VI as provided in 24 CFR part 1, to act as the “responsible Department official”' in matters delegated to the Assistant Secretary for FHEO, including the authority to further redelegate this authority. The General Deputy Assistant Secretary for FHEO retains and further redelegates this authority, with noted exceptions in Section B, to the Deputy Assistant Secretary for Enforcement and Programs, Director of the Office of Enforcement, Director of the Office of Systemic Investigations and the FHEO Region Directors.

Section B. Authority Excepted

The authority redelegated by the Assistant Secretary in this notice does not include the authority to issue or to waive regulations. The authority redelegated by the General Deputy Assistant Secretary for FHEO does not include the authority under 24 CFR 1.8(a) to refer to the Department of Justice (DOJ) unresolved findings of non-compliance or seek other means of compliance, the authority under 24 CFR 1.8(c) to terminate, refuse to grant, or refuse to continue federal financial assistance, the authority under 24 CFR 1.8(d) to determine that compliance cannot be effectuated by informal means and does not include authority to further redelegate.

Section C. Delegations of Authority Revoked

All prior redelegations of authority under Title VI of the Civil Rights Act of 1964 made by the Assistant Secretary for FHEO are revoked.

Authority: Section 7(d) of the Department of Housing and Urban Development Act (42 U.S.C. 3535(d)).

Dated: May 31, 2007.
Kim Kendrick,
Assistant Secretary for Fair Housing and Equal Opportunity.
Cheryl Ziegler,
General Deputy Assistant Secretary for Fair Housing and Equal Opportunity.

Editorial Note: This document was received at the Office of the Federal Register on December 12, 2007.

[FR Doc. E7-24328 Filed 12-14-07; 8:45 am]

BILLING CODE 4210-67-P